DEPARTMENT OF COMMERCE

National Oceanic and Atmospheric Administration

RIN 0648-XF022

Gulf of Mexico Fishery Management Council; Public Meetings

AGENCY: National Marine Fisheries Service (NMFS), National Oceanic and Atmospheric Administration (NOAA), Commerce.

ACTION: Notice; public meeting.

SUMMARY: The Gulf of Mexico Fishery Management Council (Council) will hold a meeting of its Mackerel Advisory Panel.

DATES: The meeting will be held Tuesday, November 29, 2016; from 9:30 a.m. to 3 p.m.

ADDRESSES: The meeting will be held at the Gulf Council's Conference Room.

Council address: Gulf of Mexico Fishery Management Council, 2203 N. Lois Avenue, Suite 1100, Tampa, FL 33607; (813) 348-1630 or on their Web site at www.gulfcouncil.org.

FOR FURTHER INFORMATION CONTACT: Ryan Rindone, Fishery Biologist, Gulf of Mexico Fishery Management Council; telephone: (813) 348-1630.

SUPPLEMENTARY INFORMATION: The items of discussion on the agenda are as follows:

Mackerel Advisory Panel Agenda, Tuesday, November 29, 2016, 9:30 a.m.-3 p.m.

I. Introductions and Adoption of Agenda

II. Approval of November 30, 2015 Mackerel AP report minutes

III. Review of CMP Amendment 29 Public Hearing Draft—Gulf King Mackerel Allocation Sharing and Recreational Accountability Measures

a. CMP 29 Decision Document

b. AP Recommendations

IV. Other Business

a. Discussion of King Mackerel Size Limits

b. Discussion of Gulf Southern Zone Handline Trip Limits

Meeting Adjourns

The Agenda is subject to change, and the latest version along with other meeting materials will be posted on the Council's file server. To access the file server, the URL is https://public.gulfcouncil.org:5001/webman/index.cgi, or go to the Council's Web site and click on the File Server link in the lower left of the Council Web site (http://www.gulfcouncil.org).

The username and password are both “gulfguest”. Click on the “Library Folder”, then scroll down to “Mackerel AP”.

The meeting will be webcast over the internet. A link to the webcast will be available on the Council's Web site, http://www.gulfcouncil.org.

Although other non-emergency issues not on the agenda may come before the Advisory Panel for discussion, in accordance with the Magnuson-Stevens Fishery Conservation and Management Act, those issues may not be the subject of formal action during this meeting. Actions of the Advisory Panel will be restricted to those issues specifically identified in the agenda and any issues arising after publication of this notice that require emergency action under Section 305(c) of the Magnuson-Stevens Fishery Conservation and Management Act, provided the public has been notified of the Council's intent to take action to address the emergency.

Special Accommodations

The meeting is physically accessible to people with disabilities. Requests for sign language interpretation or other auxiliary aids should be directed to Kathy Pereira (see ADDRESSES), at least 5 working days prior to the meeting date.

Authority: 16 U.S.C. 1801 et seq.

Dated: November 2, 2016.
Tracey L. Thompson,
Acting Deputy Director, Office of Sustainable Fisheries, National Marine Fisheries Service.

[FR Doc. 2016-26856 Filed 11-4-16; 8:45 am]

BILLING CODE 3510-22-P